DEPARTMENT OF ENERGY

Federal Energy Regulatory Commission

[Docket No. CP17-101-000]

Transcontinental Gas Pipe Line Company, LLC; Notice of Request for Extension of Time

Take notice that on March 19, 2021, Transcontinental Gas Pipe Line Company, LLC (Transco) requested that the Federal Energy Regulatory Commission (Commission) grant an extension of time until May 3, 2023 to complete construction of, and place into service, its Northeast Supply Enhancement (NESE) Project located in Pennsylvania, onshore and offshore New Jersey, and offshore New York as authorized in the Order Issuing Certificate (Order) on May 3, 2019.¹ Ordering Paragraph (B)(1) of the Order required Transco to complete the construction of the NESE Project facilities and make them available for service within two years of the date of the Order, or by May 3, 2021.

¹ Transcontinental Gas Pipe Line Company, LLC, 167 FERC ¶ 61,110 (2019).

On May 15, 2020, the New York State Department of Environmental Conservation (NYSDEC) denied Transco's application for a water quality certification under section 401 of the Clean Water Act. Simultaneously, the New Jersey Department of Environmental Protection denied Transco's application for a water quality certification and other individual permits. As part of its denial, NYSDEC cites lack of demand for the NESE Project. Transco asserts that the market disruption caused by the COVID-19 pandemic is temporary and a need for additional firm transportation remains. Transco states that its binding precedent agreement with National Grid remains in full force and effect and Transco remains fully committed to constructing the NESE Project. Transco avers the COVID-19 pandemic is also having a direct and adverse impact on state and local areas resources and Transco's development of the NESE Project. Moreover, Transco states that it plans to refile its section 401 applications later this year. Transco avers that postponement of the in-service date for the NESE Project has no impact on the public interest findings in the Order and the environmental record is current and relevant. Accordingly, Transco now requests an additional two years, or until May 3, 2023, to complete the construction of the NESE Project and make it available for service.

This notice establishes a 15-calendar day intervention and comment period deadline. Any person wishing to comment on Transco's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).²

² Only motions to intervene from entities that were party to the underlying proceeding will be accepted. Algonquin Gas Transmission, LLC, 170 FERC ¶ 61,144, at P 39 (2020).

As a matter of practice, the Commission itself generally acts on requests for extensions of time to complete construction for Natural Gas Act facilities when such requests are contested before order issuance. For those extension requests that are contested,³ the Commission will aim to issue an order acting on the request within 45 days.⁴ The Commission will address all arguments relating to whether the applicant has demonstrated there is good cause to grant the extension.⁵ The Commission will not consider arguments that re-litigate the issuance of the Order, including whether the Commission properly found the project to be in the public convenience and necessity and whether the Commission's environmental analysis for the certificate complied with the National Environmental Policy Act.⁶ At the time a pipeline requests an extension of time, orders on certificates of public convenience and necessity are final and the Commission will not re-litigate their issuance.⁷ The OEP Director, or his or her designee, will act on those extension requests that are uncontested.

³ Contested proceedings are those where an intervenor disputes any material issue of the filing. 18 CFR 385.2201(c)(1) (2020).

⁴ Algonquin Gas Transmission, LLC, 170 FERC ¶ 61,144, at P 40 (2020).

⁵ Id. P 40.

⁶ Similarly, the Commission will not re-litigate the issuance of an NGA section 3 authorization, including whether a proposed project is not inconsistent with the public interest and whether the Commission's environmental analysis for the permit order complied with NEPA.

⁷ Algonquin Gas Transmission, LLC, 170 FERC ¶ 61,144, at P 40 (2020).

In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning COVID-19, issued by the President on March 13, 2020. For assistance, contact FERC at FERCOnlineSupport@ferc.gov or call toll-free, (886) 208-3676 or TYY, (202) 502-8659.

The Commission strongly encourages electronic filings of comments, protests and interventions in lieu of paper using the “eFile” link at http://www.ferc.gov. Persons unable to file electronically may mail similar pleadings to the Federal Energy Regulatory Commission. To mail via USPS, use the following address: Kimberly D. Bose, Secretary, Federal Energy Regulatory Commission, 888 First Street NE, Washington, DC 20426. To mail via any other courier, use the following address: Kimberly D. Bose, Secretary, Federal Energy Regulatory Commission, 12225 Wilkins Avenue, Rockville, Maryland 20852.

Comment Date: 5:00 p.m. Eastern Time on April 6, 2021.

Dated: March 22, 2021.
Kimberly D. Bose,
Secretary.

[FR Doc. 2021-06302 Filed 3-25-21; 8:45 am]

BILLING CODE 6717-01-P